OFFICE OF THE UNITED STATES TRADE REPRESENTATIVE

Notice of Meeting of the Industry Trade Advisory Committee on Small and Minority Business (ITAC-11)

AGENCY: Office of the United States Trade Representative.

ACTION: Notice of a partially opened meeting.

SUMMARY: The Industry Trade Advisory Committee on Small and Minority Business (ITAC-11) will hold a meeting on Monday, September 15, 2008, from 9 a.m. to 3:30 p.m. The meeting will be closed to the public from 9 a.m. to 12:30 p.m. and opened to the public from 12:30 p.m. to 3:30 p.m.

DATES: The meeting is scheduled for September 15, 2008, unless otherwise notified.

ADDRESSES: The meeting will be held at the U.S. Department of Commerce-Herbert C. Humphrey Building, B841-B, Washington, DC.

FOR FURTHER INFORMATION CONTACT: Laura Hellstern, DFO for ITAC-11 at (202) 482-3222, Department of Commerce, 14th Street and Constitution Avenue, NW., Washington, DC 20230.

SUPPLEMENTARY INFORMATION: During the opened portion of the meeting, the following agenda items will be considered.

• Results of Americas Competitiveness Forum.

• Results of the Asia-Pacific Economic Cooperation (APEC) Ministerial Meetings.

• FY08 vs. FY07 U.S./ Export-Import Bank of the United States (EXIM) Loans Issued to Small and Minority Business.

• World Bank Programs for Small Business/IFC.

• Gold Key Service in Latin America.

• U.S. Patent and Trademark Office (UPTO) Work that Helps to Promote U.S. Exports.

Colleen J. Litkenhaus,
Assistant U.S. Trade Representative for Intergovernmental Affairs and Public Liaison.

[FR Doc. E8-19283 Filed 8-19-08; 8:45 am]

BILLING CODE 3190-W7-P